DEPARTMENT OF STATE

[Public Notice: 10407]

Imposition of Nonproliferation Measures Against Foreign Persons, Including a Ban on U.S. Government Procurement

AGENCY: Bureau of International Security and Nonproliferation, Department of State.

ACTION: Notice.

SUMMARY: A determination has been made that a number of foreign persons have engaged in activities that warrant the imposition of measures pursuant to Section 3 of the Iran, North Korea, and Syria Nonproliferation Act. The Act provides for penalties on foreign entities and individuals for the transfer to or acquisition from Iran since January 1, 1999; the transfer to or acquisition from Syria since January 1, 2005; or the transfer to or acquisition from North Korea since January 1, 2006, of goods, services, or technology controlled under multilateral control lists (Missile Technology Control Regime, Australia Group, Chemical Weapons Convention, Nuclear Suppliers Group, Wassenaar Arrangement) or otherwise having the potential to make a material contribution to the development of weapons of mass destruction (WMD) or cruise or ballistic missile systems. The latter category includes items of the same kind as those on multilateral lists but falling below the control list parameters when it is determined that such items have the potential of making a material contribution to WMD or cruise or ballistic missile systems, items on U.S. national control lists for WMD/missile reasons that are not on multilateral lists, and other items with the potential of making such a material contribution when added through case-by-case decisions.

DATES: April 30, 2018.

FOR FURTHER INFORMATION CONTACT: On general issues: Pam Durham, Office of Missile, Biological, and Chemical Nonproliferation, Bureau of International Security and Nonproliferation, Department of State, Telephone (202) 647-4930, durhampk@state.gov. For U.S. Government procurement ban issues: Eric Moore, Office of the Procurement Executive, Department of State, Telephone: (703) 875-4079, mooren@state.gov.

SUPPLEMENTARY INFORMATION: On April 30, 2018 the U.S. Government applied the measures authorized in Section 3 of the Iran, North Korea, and Syria Nonproliferation Act (Pub. L. 109-353) against the following foreign persons identified in the report submitted pursuant to Section 2(a) of the Act:

Abascience Tech Co., Ltd. (China) and any successor, sub-unit, or subsidiary thereof;

Easy Fashion Metal Products Trade Company [aka Easyfashion Industries] (China) and any successor, sub-unit, or subsidiary thereof;

Emily Liu (Chinese individual);

Karl Lee [aka Li Fangwei] (Chinese individual);

Raybeam Optronics Co., Ltd (China) and any successor, sub-unit, or subsidiary thereof;

Shanghai Rotech Pharmaceutical Engineering Company (China) and any successor, sub-unit, or subsidiary thereof;

Sinotech (Dalian) Carbon and Graphite Corporation (SCGC) (China) and any successor, sub-unit, or subsidiary thereof;

Sunway Tech Co., Ltd (China) and any successor, sub-unit, or subsidiary thereof;

T-Rubber Co. Ltd (China) and any successor, sub-unit, or subsidiary thereof;

Sakr Factory for Developmental Industries (Egypt) and any successor, sub-unit, or subsidiary thereof;

Mojtaba Ghasemi (Iranian individual);

Islamic Revolutionary Guard Corps Qods Force (IRGC QF) (Iran) and any successor, sub-unit, or subsidiary thereof;

Pars Aviation Service Company (PASC) (Iran) and any successor, sub-unit, or subsidiary thereof;

Defense Industries Organization (DIO) (Iran) and any successor, sub-unit, or subsidiary thereof;

Saeng Pil Trading Corporation (SPTC) (North Korea) and any successor, sub-unit, or subsidiary thereof;

Second Economic Committee (SEC) Korea Ryonbong General Corporation (North Korea) and any successor, sub-unit, or subsidiary thereof;

183rd Guard Air Defense Missile Regiment (Russia) and any successor, sub-unit, or subsidiary thereof;

Instrument Design Bureau (KBP) Tula (Russia) and any successor, sub-unit, or subsidiary thereof;

Gatchina Surface-to-Air Missile Training Center (Russia) and any successor, sub-unit, or subsidiary thereof;

Russian General Staff Main Intelligence Directorate (GRU) (Russia) and any successor, sub-unit, or subsidiary thereof;

18th Central Scientific Research Institute (18th TsNII) Scientific Research Center (NITs) (Kursk) (Russia) and any successor, sub-unit, or subsidiary thereof;

Russian Research and Production Concern (BARL) and any successor, sub-unit, or subsidiary thereof;

Scientific Studies and Research Center (SSRC) (Syria) and any successor, sub-unit, or subsidiary thereof;

Lebanese Hizballah (Syria) and any successor, sub-unit, or subsidiary thereof;

Megatrade (Syria) and any successor, sub-unit, or subsidiary thereof;

Syrian Air Force (Syria) and any successor, sub-unit, or subsidiary thereof;

Seden Denizcilik Hizmeleri Sanayi de Ticaret Limited (Turkey) and any successor, sub-unit, or subsidiary thereof; and

Yona Star International (United Arab Emirates) and any successor, sub-unit, or subsidiary thereof.

Accordingly, pursuant to Section 3 of the Act, the following measures are imposed on these persons:

1. No department or agency of the United States Government may procure or enter into any contract for the procurement of any goods, technology, or services from these foreign persons, except to the extent that the Secretary of State otherwise may determine;

2. No department or agency of the United States Government may provide any assistance to these foreign persons, and these persons shall not be eligible to participate in any assistance program of the United States Government, except to the extent that the Secretary of State otherwise may determine;

3. No United States Government sales to these foreign persons of any item on the United States Munitions List are permitted, and all sales to these persons of any defense articles, defense services, or design and construction services under the Arms Export Control Act are terminated; and

4. No new individual licenses shall be granted for the transfer to these foreign persons of items the export of which is controlled under the Export Administration Act of 1979 or the Export Administration Regulations, and any existing such licenses are suspended.

These measures shall be implemented by the responsible departments and agencies of the United States Government and will remain in place for two years from the effective date, except to the extent that the Secretary of State may subsequently determine otherwise.

Christopher A. Ford,
Assistant Secretary of State for International Security and Nonproliferation.

[FR Doc. 2018-10091 Filed 5-9-18; 8:45 am]

BILLING CODE 4710-25-P